DEPARTMENT OF LABOR

Employment and Training Administration

[TA-W-54,001]

Yellow Book USA, Effingham, IL; Notice of Termination of Investigation

Pursuant to section 221 of the Trade Act of 1974, as amended, an investigation was initiated on January 14, 2004, in response to a worker petition filed on behalf of workers at Yellow Book USA, Effingham, Illinois.

A negative determination applicable to the petitioning group of workers was issued on June 24, 2003 (TA-W-51,897). No new information is evident which would result in a reversal of the Department's previous determination. Consequently, further investigation in this case would serve no purpose; and the investigation has been terminated.

Signed at Washington, DC this 16th day of January 2004.
Richard Church,
Certifying Officer, Division of Trade Adjustment Assistance.

[FR Doc. 04-2607 Filed 2-5-04; 8:45 am]

BILLING CODE 4510-30-P